DEPARTMENT OF TRANSPORTATION

Federal Aviation Administration

14 CFR Part 73

[Docket No. FAA-2015-3338; Airspace Docket No. 15-ASO-7]

RIN 2120-AA66

Modification and Establishment of Restricted Areas; Townsend, GA

AGENCY: Federal Aviation Administration (FAA), DOT.

ACTION: Final rule.

SUMMARY: This action modifies the restricted airspace at the Townsend Bombing Range, GA (Range), by expanding the lateral limits of R-3007A to allow construction of additional targets and impact areas. The modification is needed so that precision guided munitions (PGM) can be used on the range. The changes are completely contained within the existing outer boundaries of the R-3007 complex.

DATES: Effective date 0901 UTC, November 8, 2018.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies restricted airspace to accommodate military training requirements.

History

The FAA published a notice of proposed rulemaking for Docket No. FAA-2015-3338 in the Federal Register (80 FR 60573; October 7, 2015), to expand the lateral limits of restricted area R-3007A, Townsend, GA. Interested parties were invited to participate in this rulemaking effort by submitting written comments on the proposal. The comment period closed November 23, 2015. One comment was received from a member of the public.

Discussion of Comment

The commenter suggested that the floor of the proposed R-3007E be lowered from 100 feet above ground level (AGL); to the surface in order to allow the opportunity to add more targets in the future. To designate the surface as the floor of a restricted area, the proponent must own, or otherwise control, the underlying land. The expansion of R-3007A, which extends to the surface, encompasses land purchased by the proponent for that purpose. R-3007E is outside the land purchase area, therefore it is not possible to lower the floor below 100 feet AGL at this time.

Differences From NPRM

The NPRM contained an error in the 15th coordinate listed for R-3007A. The longitude for that point was listed as “91°36′32″ W.” The correct point is “81°36′32″ W.”

The NPRM listed the “Air National Guard (ANG), Savannah Combat Readiness Training Center (CRTC),” as the using agency in the description of R-3007E. Since the publication of the NPRM, using agency responsibilities for the Range were transferred from the ANG to the U.S. Marine Corps (USMC). On June 28, 2017, the FAA published in the Federal Register a final rule that changed the using agency for the restricted areas to the USMC, Marine Corps Air Station Beaufort, SC (82 FR 29229), Docket No. FAA-2017-0585. The USMC has assumed responsibility for management and operation of the Townsend Range. This change is reflected in the description of R-3007E, below.

The Rule

The FAA is amending 14 CFR part 73 to expand restricted area R-3007A by merging the part of R-3007C that overlies a land parcel acquired by the U.S. Marine Corps into R-3007A. The floor of R-3007C is 100 feet AGL. By adding the airspace over this land parcel into R-3007A, the restricted area floor in that area will be lowered from 100 feet AGL down to ground level. The small slice of restricted airspace, with a 100-foot AGL floor, between the east boundary of the expanded R-3007A, and the west boundary of R-3007B, is redesignated as R-3007E. R-3007E extends from 100 feet AGL up to, but not including, 13,000 feet MSL.

Minor corrections are made to several boundary coordinates for R-3007B, R-3007C, and R-3007D to match the current National Hydrology Dataset that defines the Altamaha River boundary where that river forms the boundary of the restricted areas.

This rule provides the additional ground-level restricted airspace needed for the construction of targets and impact areas so that PGM can safely be employed at the Range.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that the USMC's Environmental Impact Statement (EIS) analyzing the modification of restricted airspace at the Townsend Bombing Range, GA, by expanding the lateral limits of R-3007A to allow construction of additional targets and impact areas so that PGM can be used on the Range, qualifies for FAA adoption in accordance with FAA Order 1050.1F, paragraphs 8-2 and 9-2, Adoption of Other Agencies' National Environmental Policy Act Documents, and Written Re-evaluations, and 7400.2L, paragraph 32-2-3, Environmental Processing of Special Use Airspace Actions. The FAA, after conducting an independent review and written re-evaluation of the USMC's January 14, 2014 “Final EIS and Record of Decision for the Proposed Modernization and Expansion of Townsend Bombing Range, Georgia,” has determined that the USMC's Final EIS and supporting documentation adequately assess and disclose the environmental impacts of the proposed action. Based on the evaluation for potential environmental impact in the USMC's EIS, the FAA, as the Cooperating Agency, concluded that adoption of the EIS is authorized in accordance with 40 CFR 1506.3, Adoption. Accordingly, FAA adopts the USMC's EIS via the FAA's June 12, 2018 Adoption EIS, FAA Adoption of Environmental Impact Statement, Written Re-Evaluation, and Record of Decision for the Modernization of the Existing Special Use Airspace and Amendment of R-3007 A/C/E at Townsend Bombing Range, Georgia, and takes full responsibility for the scope and content that address the FAA's airspace action. The FAA finds that this action will not significantly affect the quality of the human environment or otherwise include any condition requiring consultation pursuant to Section 102(2)(C) of NEPA.

List of Subjects in 14 CFR Part 73

Airspace, Prohibited areas, Restricted areas.

The Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.30 [Amended]

2. Section 73.30 is amended as follows:

* * * * *

R-3007A Townsend, GA [Amended]

By removing the current boundaries and inserting the following:

Boundaries. Beginning at lat. 31°41′52″ N, long. 81°35′53″ W; to lat. 31°42′31″ N, long. 81°33′59″ W; to lat. 31°39′24″ N, long. 81°30′31″ W; to lat. 31°37′49″ N, long. 81°30′56″ W; to lat. 31°36′35″ N, long. 81°31′15″ W; to lat. 31°34′17″ N, long. 81°31′56″ W; to lat. 31°33′07″ N, long. 81°32′41″ W; thence counterclockwise along a 1-NM radius arc from a point centered at lat. 31°32′26″ N, long. 81°31′49″ W; to lat. 31°32′37″ N, long. 81°32′58″ W; to lat. 31°30′59″ N, long. 81°33′57″ W; to lat. 31°30′45″ N, long. 81°34′19″ W; to lat. 31°30′29″ N, long. 81°34′41″ W; to lat. 31°30′38″ N, long. 81°35′06″ W; to lat. 31°31′13″ N, long. 81°35′02″ W; to lat. 31°31′35″ N, long. 81°36′32″ W; to lat. 31°33′04″ N, long. 81°37′27″ W; to lat. 31°33′30″ N, long. 81°36′32″ W; to lat. 31°34′25″ N, long. 81°36′13″ W; to lat. 31°35′32″ N, long. 81°35′59″ W; to lat. 31°35′55″ N, long. 81°35′19″ W; to lat. 31°36′38″ N, long. 81°35′18″ W; to lat. 31°36′43″ N, long. 81°35′41″ W; to lat. 31°37′20″ N, long. 81°35′37″ W; to lat. 31°37′23″ N, long. 81°35′47″ W; to lat. 31°40′29″ N, long. 81°36′13″ W; to lat. 31°40′48″ N, long. 81°35′33″ W; to the point of beginning.

R-3007B Townsend, GA [Amended]

By removing the current boundaries and inserting the following:

Boundaries. Beginning at lat. 31°38′01″ N, long. 81°28′59″ W; to lat. 31°37′31″ N, long. 81°28′14″ W; to lat. 31°32′31″ N, long. 81°27′29″ W; to lat. 31°26′16″ N, long. 81°31′29″ W; to lat. 31°25′26″ N, long. 81°36′05″ W; to lat. 31°27′26″ N, long. 81°33′39″ W; to lat. 31°31′26″ N, long. 81°31′58″ W; thence clockwise along a 1-NM radius arc from a point centered at lat. 31°32′26″ N, long. 81°31′49″ W; to lat. 31°33′18″ N, long. 81°31′13″ W; to the point of beginning.

R-3007C Townsend, GA [Amended]

By removing the current boundaries and inserting the following:

Boundaries. Beginning at lat. 31°37′55″ N, long. 81°47′20″ W; to lat. 31°41′52″ N, long. 81°35′53″ W; to lat. 31°40′48″ N, long. 81°35′33″ W; to lat. 31°40′29″ N, long. 81°36′13″ W; to lat. 31°37′23″ N, long. 81°35′47″ W; to lat. 31°37′20″ N, long. 81°35′37″ W; to lat. 31°36′43″ N, long. 81°35′41″ W; to lat. 31°36′38″ N, long. 81°35′18″ W; to lat. 31°35′55″ N, long. 81°35′19″ W; to lat. 31°35′32″ N, long. 81°35′59″ W; to lat. 31°34′25″ N, long. 81°36′13″ W; to lat. 31°33′30″ N, long. 81°36′32″ W; to lat. 31°33′04″ N, long. 81°37′27″ W; to lat. 31°31′35″ N, long. 81°36′32″ W; to lat. 31°31′13″ N, long. 81°35′02″ W; to lat. 31°30′38″ N, long. 81°35′06″ W; to lat. 31°30′29″ N, long. 81°34′41″ W; to lat. 31°30′45″ N, long. 81°34′19″ W; to lat. 31°30′59″ N, long. 81°33′57″ W; to lat. 31°32′37″ N, long. 81°32′58″ W; thence counterclockwise along a 1-NM radius arc from a point centered at lat. 31°32′26″ N, long. 81°31′49″ W; to lat. 31°31′26″ N, long. 81°31′58″ W; to lat. 31°27′26″ N, long. 81°33′39″ W; to lat. 31°25′26″ N, long. 81°36′05″ W; thence west along the Altamaha River to the point of beginning.

R-3007D Townsend, GA [Amended]

By removing the current boundaries and inserting the following:

Boundaries. Beginning at lat. 31°37′55″ N, long. 81°47′20″ W; to lat. 31°41′52″ N, long. 81°35′53″ W; to lat. 31°42′31″ N, long. 81°33′59″ W; to lat. 31°39′24″ N, long. 81°30′31″ W; to lat. 31°38′01″ N, long. 81°28′59″ W; to lat. 31°37′31″ N, long. 81°28′14″ W; to lat. 31°32′31″ N, long. 81°27′29″ W; to lat. 31°26′16″ N, long. 81°31′29″ W; to lat. 31°25′26″ N, long. 81°36′05″ W; thence northwest along the Altamaha River to the point of beginning.

R-3007E Townsend, GA [New]

Boundaries. Beginning at lat. 31°39′24″ N, long. 81°30′31′ W; to lat. 31°38′01″ N, long. 81°28′59″ W; to lat. 31°33′18″ N, long. 81°31′13″ W; thence counterclockwise along a 1-NM radius arc from a point centered at lat. 31°32′26″ N, long. 81°31′49″ W; to lat. 31°33′07″ N, long. 81°32′41″ W; to lat. 31°34′17″ N, long. 81°31′56″ W; to lat. 31°36′35″ N, long. 81°31′15″ W; to lat. 31°37′49″ N; long. 81°30′56″ W; to the point of beginning.

Designated altitudes. 100 feet AGL to but not including 13,000 feet MSL.

Time of designation. 0700-2200 local time, Monday-Friday; other times by NOTAM at least 24 hours in advance.

Controlling agency. FAA, Jacksonville ARTCC.

Using agency. USMC, Marine Corps Air Station Beaufort, SC.

Issued in Washington, DC, on August 20, 2018.
Rodger A. Dean, Jr.,
Manager, Airspace Policy Group.

[FR Doc. 2018-18510 Filed 8-24-18; 8:45 am]

BILLING CODE 4910-13-P